DEPARTMENT OF TRANSPORTATION

Maritime Administration

[DOCKET NO: MARAD-2006-26228]

Intent To Prepare an Environmental Impact Statement (EIS)

AGENCY: Department of Transportation, Maritime Administration.

ACTION: Notice of the intent to prepare an Environmental Impact Statement (EIS) for the update of the Kahului Harbor, Maui County, HI Master Plan.

SUMMARY: The purpose of this Notice is to announce the Maritime Administration's (MARAD) intent to prepare an Environmental Impact Statement (EIS) for improvements to Kahului Harbor, Maui County, needed to address the community's needs for commercial harbor facilities through 2030. This notice is issued in compliance with the National Environmental Policy Act (NEPA) and implementing regulations for the following purposes: (1) To advise other agencies and the public of the Agency's intentions; (2) to obtain suggestions and information on the issues related to the proposed project to be addressed in the EIS; and (3) to announce a public scoping meeting.

DATES: The public scoping meeting will be held on November 13, 2006, at Liihikai School, 335 South Papa Avenue, Kahului, HI 96732 from 6:30 p.m. to 9 p.m.

Written comments on environmental issues and concerns that should be addressed in the EIS are encouraged, and must be electronically submitted or postmarked by November 30, 2006.

ADDRESSES: You may submit comments [identified by DOT DMS Docket Number MARAD-2006-26228] by any of the following methods:

• Web site: http://dms.dot.gov. Follow the instructions for submitting comments on the DOT electronic docket site.

• Mail: Docket Management Facility; U.S. Department of Transportation, 400 7th St., SW., Nassif Building, Room PL-401, Washington, DC 20590-001.

• Hand Delivery: Room PL-401 on the plaza level of the Nassif Building, 400 7th St., SW., Washington, DC, between 9 a.m. and 5 p.m., Monday through Friday, except Federal Holidays.

Instructions: All submissions must include the Agency name and docket number for this action. Note that all comments received will be posted without change to http://dms.dot.gov including any personal information provided. Please see the Privacy Act heading below.

Docket: For access to the docket to read background documents or comments received, go to http://dms.dot.gov at any time or to Room PL-401 on the plaza level of the Nassif Building, 400 7th St., SW., Washington, DC, between 9 a.m. and 5 p.m., Monday through Friday, except Federal Holidays.

FOR FURTHER INFORMATION CONTACT: Maggie D. Blum, Associate Administrator for Port, Intermodal, and Environmental Activities, U.S. Maritime Administration, 400 Seventh Street, SW., Washington, DC 20590, e-mail envmarad@dot.gov.

SUPPLEMENTARY INFORMATION: The Hawaii State Department of Transportation (HI DOT) has previously conducted planning for Kahului Harbor, leading to a 2025 Master Plan and Environmental Assessment. However, demand for harbor facilities has been much greater than anticipated, and space for current operations is very tight. The 2025 Master Plan called for development of new pier and harbor space at the west breakwater of the harbor. HI DOT has begun a new master planning process, which will lead to a new set of alternatives to meet current and future harbor needs. The west breakwater expansion and other steps to help assure that the harbor supports the continuing prosperity and quality of life of Maui County are under consideration.

The EIS will address the following issues: (1) Demand for additional space and facilities at Kahului; (2) organization of harbor space and facilities to promote and preserve orderly cargo operations, passenger operations, and recreational activity; (3) environmental impacts of any proposed alternatives; and (4) additional issues that may emerge from the scoping process.

An electronic version of this document and all documents entered into this docket including comments are available at http://dms.dot.gov.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority: 49 C.F.R. 1.66)

Dated: October 27, 2006.
By order of the Maritime Administrator.
Joel C. Richard,
Secretary, Maritime Administration.

[FR Doc. E6-18512 Filed 11-2-06; 8:45 am]

BILLING CODE 4910-81-P